DEPARTMENT OF THE INTERIOR

Bureau of Land Management

[MT-010-1220-HA]

Notice of Closure of Certain Public Lands to the Use of Motorized Vehicles

AGENCY: Bureau of Land Management, Interior.

ACTION: Notice of closure of certain public lands to the use of motorized vehicles.

SUMMARY: Notice is hereby given that motorized vehicle use is allowed only on Crooked Creek Road and the parking lot of the 17-Mile Area. The remaining lands at the 17-Mile Area are closed to motorized vehicle use. The 17-Mile Area is located 12 miles north of Billings, Montana on Crooked Creek Road west of Montana Highway 87. This closure is necessary for public safety and resource protection on lands used for firearms target practice.

Designation and location of public lands:

Open to motorized vehicle use: Crooked Creek Road and the adjoining parking lot,

T. 3 N., R. 26 E., P.M.M.,

Sec. 9, E½SE¼SE¼;

Sec. 10, S½S½SW¼.

Closed to motorized vehicle use:

T. 3 N., R. 26 E., P.M.M.,

Sec 4, all;

Sec. 8, W½, SE¼;

Sec. 9, NE¼, W½, NE¼SE¼, W½SE¼, W½SE¼SE¼;

Sec 10. NW¼, N½SW¼, N½S½SW¼.

Exempted from this closure are Bureau of Land Management employees on official business, firefighting forces, law enforcement officers, or persons with a permit or written authorization allowing the otherwise prohibited act.

Authority: Authority for this action is outlined in sections 302, 303, and 310 of the Federal Land Policy and Management Act (43 USC 1716) and Title 43 Code of Federal Regulations, subpart 8341 (43 CFR 8341.2) and subpart 8364 (43 CFR 8364.1). Any person who fails to comply with this closure is subject to arrest and a fine of up to $1,000 or imprisonment not to exceed 12 months, or both.

EFFECTIVE DATE: This closure is effective year-around upon the date of publication.

FOR FURTHER INFORMATION CONTACT: Sandra S. Brooks, Field Manager, BLM, Billings Field Office, 5001 Southgate Drive, P.O. Box 36800, Billings, Montana 59107-6800 or call 406-896-5013.

Dated: October 6, 2000.
Sandra S. Brooks,
Field Manager.

[FR Doc. 00-26440 Filed 10-13-00; 8:45 am]

BILLING CODE 4310-$$-P